DEPARTMENT OF THE INTERIOR

Bureau of Land Management

[PO4820000251]

Wyoming Resource Advisory Council Announces 2025 Meetings

AGENCY: Bureau of Land Management, Interior.

ACTION: Notice of public meetings.

SUMMARY: In accordance with the Federal Land Policy and Management Act of 1976 and the Federal Advisory Committee Act of 1972, the U.S. Department of the Interior, Bureau of Land Management's (BLM) Wyoming Resource Advisory Council (RAC) is announcing its 2025 meeting dates.

DATES: The Wyoming RAC will meet as follows:

• January 29, 2025, in-person and virtually, from 8:30 a.m. to 4:30 p.m. MT. A speaker presentation will be held January 30, 2025, beginning at 8:30 a.m.;

• April 23, 2025, in-person and virtually, from 8:30 a.m. to 4:30 p.m. MT. A field tour will be held April 24, 2025, beginning at 8:30 a.m.;

• July 9, in-person and virtually, from 8:30 a.m. to 4:30 p.m. MT. A field tour will be held July 10, 2025, beginning at 8:30 a.m.;

• October 21, in-person and virtually, from 8:30 a.m. to 4:30 p.m. MT. A field tour will be held October 22, 2025, beginning at 8:30 a.m.

All meetings and field tours are open to the public. The public is responsible for their own transportation on field tours and to meetings.

ADDRESSES: The January 29 meeting will be held at the BLM Wyoming State Office at 5353 Yellowstone Road, Cheyenne, WY 82009, as well as virtually through the Zoom platform.

The April 23 meeting will be held at a determined Wyoming Field Office, as well as virtually through the Zoom platform.

The July 9 meeting will be held at a determined Wyoming Field Office, as well as virtually through the Zoom platform.

The October 21 meeting will be held at a determined Wyoming Field Office, as well as virtually through the Zoom platform.

Virtual registration information and the agenda for all meetings will be available 2 weeks in advance of the meetings on the Council's web page at https://www.blm.gov/get-involved/resource-advisory-council/near-you/wyoming.

FOR FURTHER INFORMATION CONTACT: Allegra Keenoo, BLM Wyoming State Office, telephone: (307) 775-6318, email: akeenoo@blm.gov. Individuals in the United States who are deaf, deafblind, hard of hearing, or have a speech disability may dial 711 (TTY, TDD, or TeleBraille) to access telecommunications relay services for contacting Allegra Keenoo. Individuals outside the United States should use the relay services offered within their country to make international calls to the point-of-contact in the United States.

SUPPLEMENTARY INFORMATION: The 10-member RAC provides recommendations to the Secretary of the Interior, through the BLM, on a variety of public land challenges within the State of Wyoming.

Each meeting may include field office updates and a time reserved for open discussion, followed by a public comment period. Depending on the number of people who wish to speak, the time for individual comments may be limited.

Individuals who plan to attend and need special assistance, such as sign language interpretation and other reasonable accommodations, should contact the BLM (see FOR FURTHER INFORMATION CONTACT) 2 weeks in advance of the meeting.

Written comments for the Council may be sent electronically in advance of the scheduled meetings to Public Affairs Specialist Allegra Keenoo at akeenoo@blm.gov, or in writing to BLM Wyoming Public Affairs, 5353 Yellowstone Rd. Cheyenne, WY 82009. All comments received will be provided to the Council. Please include “RAC Comment” in your submission. Before including your address, phone number, email address, or other personal identifying information in your comment, you should be aware that your entire comment—including your personal identifying information—may be made publicly available at any time. While you can ask us in your comment to withhold your personal identifying information from public review, we cannot guarantee that we will be able to do so.

Detailed minutes for RAC meetings will be maintained in the BLM Wyoming State Office and will be available for public inspection within 90 days following the meeting. Previous minutes and agendas are also available on the RAC's web page listed in the ADDRESSES section of this notice.

(Authority: 43 CFR 1784.4-2)

Andrew Archuleta,
BLM Wyoming State Director.

[FR Doc. 2024-29655 Filed 12-16-24; 8:45 am]

BILLING CODE 4331-26-P